DEPARTMENT OF ENERGY

Federal Energy Regulatory Commission

[Docket No. CP20-12-000]

Columbia Gas Transmission, LLC; Notice of Schedule for Environmental Review of the Leach Xpress Project Amendment

On November 6, 2019, Columbia Gas Transmission, LLC (Columbia Gas) filed an application under section 7(c) of the Natural Gas Act to amend the existing Order Issuing Certificates and Approving Abandonment issued on January 19, 2017 (Order) for the Leach XPress Project (LXP) in Docket No. CP15-514-000. In the LXP Amendment, Columbia Gas proposes to modify its operation of the Ceredo Compressor Station authorized in the Order and requests modifying the Order noise level requirement for the Ceredo and Crawford Compressor Stations. The proposed LXP Amendment would allow Columbia Gas to operate the Ceredo and Crawford Compressor Stations under the modified full load scenario, and ensure that the noise level requirement associated with the compressor stations would be consistent with the Commission's policy.

On November 19, 2019, the Federal Energy Regulatory Commission (FERC or Commission) issued its Notice of Application for the LXP Amendment. Among other things, that notice alerted agencies issuing federal authorization of the requirement to complete all necessary reviews and to reach a final decision on a request for a federal authorization within 90 days of the date of issuance of the Commission's staff's Environmental Assessment (EA) for the LXP Amendment. This instant notice identifies the FERC staff's planned schedule for completion of an EA for the LXP Amendment.

Schedule for Environmental Review

Issuance of EA—May 7, 2020

90-day Federal Authorization Decision Deadline—August 5, 2020

If a schedule change becomes necessary, additional notice will be provided so that the relevant agencies are kept informed of the LXP Amendment's progress.

Project Description

Columbia Gas is proposing to modify its operation of the Ceredo Compressor Station authorized in the Order to reduce operational noise levels on noise sensitive areas by: (1) Modifying the full-load operation of the Ceredo Compressor Station to limit the use of the seven existing legacy reciprocating units operating prior to the LXP Order to four units at a given time; and (2) allowing for the use of additional horsepower (hp) at the Ceredo Compressor Station that is available from existing electric-driven compressor units installed since issuance of the LXP Order. Columbia Gas also requests amending the Order noise level requirement for the Ceredo and Crawford Compressor Stations to conform to the Commission staff recommended environmental condition 31 in the September 2016 final Environmental Impact Statement for the LXP rather than environmental condition 31 of the Order.

Background

On February 26, 2020, the Commission issued a Notice of Intent to Prepare an Environmental Assessment for the Proposed Leach XPress Project Amendment and Request for Comments on Environmental Issues (NOI). The NOI was sent to affected landowners; federal, state, and local government agencies; elected officials; other interested parties; and local libraries and newspapers. In response to the NOI, the Commission received one comment letter from the U.S. Environmental Protection Agency raising issues including: Expected noise impacts and existing and potential alternative noise mitigation applicable to noise sensitive receivers in the vicinity of the compressor stations; and clarification of what facility modifications Columbia Gas carried out at the compressor stations under the LXP Order. All substantive comments received from the U.S. Environmental Protection Agency will be addressed in the EA.

Additional Information

In order to receive notification of the issuance of the EA and to keep track of all formal issuances and submittals in specific dockets, the Commission offers a free service called eSubscription. This can reduce the amount of time you spend researching proceedings by automatically providing you with notification of these filings, document summaries, and direct links to the documents. Go to www.ferc.gov/docs-filing/esubscription.asp.

Additional information about the LXP Amendment is available from the Commission's Office of External Affairs at (866) 208-FERC or on the FERC website (www.ferc.gov). Using the “eLibrary” link, select “General Search” from the eLibrary menu, enter the selected date range and “Docket Number” excluding the last three digits (i.e., CP20-12), and follow the instructions. For assistance with access to eLibrary, the helpline can be reached at (866) 208-3676, TTY (202) 502-8659, or at FERCOnlineSupport@ferc.gov. The eLibrary link on the FERC website also provides access to the texts of formal documents issued by the Commission, such as orders, notices, and rule makings.

Dated: April 1, 2020.
Kimberly D. Bose,
Secretary.

[FR Doc. 2020-07375 Filed 4-7-20; 8:45 am]

BILLING CODE 6717-01-P